DEPARTMENT OF AGRICULTURE

Agricultural Marketing Service

[AMS-TM-08-0072; TM-08-09]

Notice of Agricultural Management Assistance Organic Certification Cost Share Program

AGENCY: Agricultural Marketing Service, USDA.

ACTION: Notice of funds availability.

SUMMARY: This notice invites the following eligible States: Connecticut, Delaware, Hawaii, Maine, Maryland, Massachusetts, Nevada, New Hampshire, New Jersey, New York, Pennsylvania, Rhode Island, Utah, Vermont, West Virginia, and Wyoming, to submit an Application for Federal Assistance (Standard Form 424), and to enter into a Cooperative Agreement with the Agricultural Marketing Service (AMS) for the Allocation of Organic Certification Cost-Share Funds. The AMS has allocated $1.5 million for this organic certification cost-share program in Fiscal Year 2008. Funds will be available under this program to 16 designated States to assist organic crop and livestock producers certified under the National Organic Program (NOP). Eligible States interested in obtaining cost-share funds for their organic producers will have to submit an Application for Federal Assistance, and will have to enter into a cooperative agreement with AMS for the allocation of such funds.

DATES: Completed applications for federal assistance along with signed cooperative agreements must be received by close of business, September 15, 2008, in order to participate in this program.

ADDRESSES: Applications for federal assistance and cooperative agreements shall be requested from and submitted to: Robert Pooler, Agricultural Marketing Specialist, National Organic Program, USDA/AMS/TMP/NOP, Room 4008-South, Ag Stop 0268, 1400 Independence Avenue, SW., Washington, DC 20250-0264; Telephone: (202) 720-3252; Fax: (202) 205-7808. Additional information may be found through the National Organic Program's homepage at http://www.ams.usda.gov/nop.

FOR FURTHER INFORMATION CONTACT: Robert Pooler, Agricultural Marketing Specialist, National Organic Program, USDA/AMS/TM/NOP, Room 4008-South, Ag Stop 0268, 1400 Independence Avenue, SW., Washington, DC 20250-0268; Telephone: (202) 720-3252; Fax: (202) 205-7808.

SUPPLEMENTARY INFORMATION: This Organic Certification Cost-Share Program is part of the Agricultural Management Assistance Program authorized under the Federal Crop Insurance Act (FCIA), as amended, (7 U.S.C. 1524). Under the applicable FCIA provisions, the Department is authorized to provide cost share assistance to producers in the States of Connecticut, Delaware, Hawaii, Maine, Maryland, Massachusetts, Nevada, New Hampshire, New Jersey, New York, Pennsylvania, Rhode Island, Utah, Vermont, West Virginia, and Wyoming. The AMS has allocated $1.5 million for this organic certification cost-share program in Fiscal Year 2008. This organic certification cost share program provides financial assistance to organic producers certified to the NOP authorized under the Organic Foods Production Act of 1990, as amended (7 U.S.C. 6501 et seq.). This program is in addition to and separate from the National Organic Certification Cost Share Program which is also administered by AMS and is open to all States and U.S. Territories.

To participate in the program, eligible States must complete a Standard Form 424, Application for Federal Assistance, and enter into a written cooperative agreement with AMS. The program will provide cost-share assistance, through participating States, to organic crop and livestock producers receiving certification or update of certification by a USDA accredited certifying agent from October 1, 2008 through September 30, 2009. The Department has determined that payments will be limited to 75 percent of an individual producer's certification costs up to a maximum of $750.00.

Authority: 7 U.S.C. 1524.

Dated: August 22, 2008.
Lloyd C. Day,
Administrator, Agricultural Marketing Service.

[FR Doc. E8-19921 Filed 8-27-08; 8:45 am]

BILLING CODE 3410-02-P